DEPARTMENT OF COMMERCE

Census Bureau

Agency Information Collection Activities; Submission to the Office of Management and Budget (OMB) for Review and Approval; Comment Request; Monthly Retail Surveys

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Monthly Retail Surveys, prior to the submission of the information collection request (ICR) to OMB for approval.

DATES: To ensure consideration, comments regarding this proposed information collection must be received on or before October 6, 2025.

ADDRESSES: Interested persons are invited to submit written comments by email to Thomas.J.Smith@census.gov and PRAcomments@doc.gov. Please reference Monthly Retail Surveys in the subject line of your comments. You may also submit comments, identified by Docket Number USBC-2025-0072, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Evelyn Lewis, Chief, Retail Indicators Branch, by phone at 301-763-2240, or by email at Evelyn.Lewis@census.gov.

SUPPLEMENTARY INFORMATION:

I. Abstract

The Census Bureau plans to request an extension of the current Office of Management and Budget clearance for the surveys known as the Monthly Retail Trade Survey (MRTS) and the Advance Monthly Retail Trade Survey (MARTS). The MRTS and MARTS are related collections sharing the same initial sample frame and collect data that are published in conjunction with each other. These two surveys are collectively called the Monthly Retail Surveys (MRS).

The Monthly Retail Trade Survey (MRTS) provides estimates of monthly retail sales, end-of-month merchandise inventories, and quarterly e-commerce sales for firms located in the United States and classified in the Retail Trade or Food Services sectors as defined by the North American Industry Classification System (NAICS).

Estimates produced from the MRTS are based on a probability sample of approximately 13,000 firms. The sample design consists of one fixed panel where all cases are requested to report sales, e-commerce sales, and/or inventories for the prior month. If reporting data for a period other than the calendar month, the survey asks for the period's length (4 or 5 weeks) and the date on which the period ended. The survey also asks for the number of establishments covered by the data provided and whether the sales data provided are estimates or more accurate “book” figures. The sample is drawn approximately every 5 to 7 years from the Business Register, which contains all Employer Identification Numbers (EINs) and listed establishment locations. The sample is updated quarterly to reflect employer business “births” and “deaths”; adding new employer businesses identified in the Business and Professional Classification Survey (SQ-CLASS) and deleting firms and EINs when it is determined they are no longer active. Estimates from the MRTS are released in 3 parts. The MRTS sales estimates are also used as input to the Monthly State Retail Sales (MSRS) experimental release first published in September 2020. The MSRS report is a blended data product combining Monthly Retail Trade Survey data, administrative data, and third-party data. Data are available for year-over-year percent changes for Total Retail Sales excluding Non-store Retailers as well as 11 North American Industry Classification System (NAICS) retail subsectors. High level aggregate estimates for end of month inventories are first released as part of the Advance Economic Indicators Report approximately four weeks after the close of the reference month. The sales and inventories estimates from MRTS are released approximately six weeks after the close of the reference month as part of the Monthly Retail Trade report and the Manufacturing and Trade Inventories and Sales (MTIS) report, which are released on the same day. Additionally, once per quarter, data for quarterly e-commerce sales are released approximately 50 days after the close of the reference quarter as part of the Quarterly Retail E-Commerce Sales report. Currently, there are no planned changes for MRTS.

The Advance Monthly Retail Trade Survey (MARTS) provides an early indication of monthly sales for retail trade and food services firms located in the United States. It was developed in response to requests by government, business, and other users to provide an early indication of current retail trade activity in the United States. Retail sales are one of the primary measures of consumer demand for both durable and non-durable goods. The MARTS survey results are published approximately two weeks after the end of the reference month. MARTS provide an OMB-designated Principal Federal Economic Indicator and the earliest available monthly estimates of broad-based retail trade activity. It also provides an estimate of monthly sales at food service establishments and drinking places.

The MARTS sample is a sub-sample of companies selected from the MRTS. The advance survey sample of about 4,800 companies are selected using a stratified sample by industry and size. Some 1,150 firms, because of their relatively large effect on the sales of certain industry groups, are selected with certainty. The MARTS sample is re-selected generally at 2½ to 3-year intervals to ensure it is representative of the target population and to redistribute burden for small- and medium-sized businesses.

Similar to the MRTS sales estimates, advance sales estimates for each kind of business are developed by applying a ratio of current-month to previous-month sales (derived from the advance retail and food service sample) to the preliminary estimate of sales for the previous month (from the larger monthly sample). Industry estimates are summed to derive total retail sales figures.

The MARTS survey requests sales and e-commerce sales for the month just ending. As on the MRTS survey, if firms report data for a period other than the calendar month, the survey asks for the period's length (4 or 5 weeks) and the date on which the period ended. Like MRTS, the survey also asks for the number of establishments covered by the data provided and whether the sales data provided are estimates or more accurate “book” figures. Currently, there are no planned changes for MARTS.

The Bureau of Economic Analysis (BEA) uses the information collected on these surveys to prepare the National Income and Products Accounts, to benchmark the annual input-output tables and as critical inputs to the calculation of the Gross Domestic Product (GDP). Policymakers at the Federal Reserve Board (FRB), the National Economic Council, and other federal and state governmental agencies as well as many private sector entities rely on the timely estimates of retail sales when making monetary and economic policy decisions.

II. Method of Collection

Respondents are initially contacted primarily by email, with a small subset receiving a letter by mail. After initial contact, non-respondents are contacted by email and/or telephone follow-up. We collect the data primarily by internet. We collect a small portion of the data by mail, telephone follow-up, and fax. Paper collection will be phased out beginning in late 2025.

III. Data

OMB Control Number: 0607-0717.

Form Number(s): SM-4417A-A, SM-4417A-E, SM-4417AE-A, SM-4417AE-E, SM-4417AS-A, SM-4417AS-E, SM-7217A-A, SM7217A-E, SM-4417S-A, SM-4417SE-A, SM-4417SS-A, SM-7217S-A, SM-7217S-E, SM-4417S-E, SM-4417SE-E, SM-4417SS-E, SM-4417B-A, SM4417BE-A, SM-4417BS-A, SM-4417B-E, SM-4417BE-E, SM-4417BS-E, SM-2017I-A, SM-2017I-E.

Type of Review: Regular submission, Request for an Extension, without Change, of a Currently Approved Collection.

Affected Public: Retail and Food Services firms in the United States.

Estimated Number of Respondents: 13,000.

Estimated Time per Response: 7 minutes per month (over a 12-month period).

Estimated Total Annual Burden Hours: 18,200.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-14783 Filed 8-4-25; 8:45 am]

BILLING CODE 3510-07-P